DEPARTMENT OF JUSTICE

Antitrust Division

Notice Pursuant to the National Cooperative Research and Production Act of 1993—Space Enterprise Consortium

Notice is hereby given that, on January 31, 2020, pursuant to Section 6(a) of the National Cooperative Research and Production Act of 1993, 15 U.S.C. 4301 et seq. (“the Act”), Space Enterprise Consortium (“SpEC”) has filed written notifications simultaneously with the Attorney General and the Federal Trade Commission disclosing changes in its membership. The notifications were filed for the purpose of extending the Act's provisions limiting the recovery of antitrust plaintiffs to actual damages under specified circumstances. Specifically, A.T. Kearney Public Sector and Defense Services, LLC, Arlington, VA; AGILE Space Propulsion Company, Durango, CO; Blue Origin, LLC, Kent, WA; C3.ai dba C3 IoT, Redwood City, CA; CesiumAstro, Austin, TX; CNF Technologies Corporation, San Antonio, TX; COLSA Corporation, Huntsville, AL; Columbus Technologies and Services, Inc., El Segundo, CA; E3 Federal Solutions, McLean, VA; Eikon Research, Inc., Huntsville, AL; FEDITC, LLC, Rockville, MD; Grey Matters Defense Solutions, LLC, Castle Rock, CO;, Infinity Technology Services, Colorado Springs, CO; Iron Bow Technologies, LLC, Herndon, VA; Lynntech, Inc., College Station, TX; Lynx Strategy Group, LLC, Alexandria, VA; MCR Federal, LLC, McLean, VA; Momentus, Inc., Santa Clara, CA; mPower Technology, Albuquerque, NM; Northstrat, Incorporated, Sterling, VA; Radiant Mission Solutions, Inc. (previously MDA), Chantilly, VA; Red River Technology, LLC, Claremont, NH; Rocket Propulsion Systems, LLC, Renton, WA; SAP National Security Services, Inc., Newton Square, PA; Serv1Tech, Woodbridge, VA; Shipcom Federal Solutions, Belcamp, MD; Splunk, Inc., San Francisco, CA; Strategic Mission Elements, Chantilly, VA; The Systems Security Engineering Group, LLC, Albuquerque, NM; Trace Systems, Inc., Vienna, VA; and World Wide Technology, Maryland Heights, MO, have been added as parties to this venture.

Also, Composite Technology Development, Lafayette, CO; Linear Space Technology, LLC, Hamilton, NJ; MDA Information Systems, Gaithersburg, MD; New Frontier Aerospace, Livermore, CA; P3 Technologies, Jupiter, FL; PreTalen, Ltd., Beavercreek, OH; and Visionary Products, Inc., Draper, UT, have withdrawn as parties to this venture.

No other changes have been made in either the membership or planned activity of the group research project. Membership in this group research project remains open, and SpEC intends to file additional written notifications disclosing all changes in membership.

On August 23, 2018, SpEC filed its original notification pursuant to Section 6(a) of the Act. The Department of Justice published a notice in the Federal Register pursuant to Section 6(b) of the Act on October 2, 2018 (83 FR 49576).

The last notification was filed with the Department on November 7, 2019. A notice was published in the Federal Register pursuant to Section 6(b) of the Act on December 5, 2019 (84 FR 66696).

Suzanne Morris,
Chief, Premerger and Division Statistics Unit, Antitrust Division.

[FR Doc. 2020-03983 Filed 2-26-20; 8:45 am]

BILLING CODE 4410-11-P